DEPARTMENT OF HEALTH AND HUMAN SERVICES

[30-day notice]

Agency Information Collection Request. 30-Day Public Comment Request, Grants.gov

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, to Ed.Calimag@hhs.gov, or call the Reports Clearance Office on (202) 690-7569. Send written comments and recommendations for the proposed information collections within 30 days of this notice directly to the Grants.gov OMB Desk Officer; faxed to OMB at 202-395-6974.

Proposed Project: SF-424 Mandatory Form—OMB No. 4040-0002-Reinstatement with Change- Grants.gov Office.

Abstract: Grants.gov is requesting OMB approval to reinstate with change the previously approved SF 424 Mandatory form (4040-0002) for three years. The fax number in block 17 will be changed to be an optional entry. The Mandatory form is the common form used by Federal grant-making agencies for grant applications under mandatory grant programs. It replaced numerous agency-specific forms. The form reduces the administrative burden to the Federal grants community, which includes applicants/grantees and Federal staff involved in grants-related activities.

Estimated Annualized Burden Table
Agency | SF-424 Mandatory number of annual respondents | Number of responses per respondent | Total annual responses | Average burden on respondent per response in hours | Total burden hours
CNCS | 0 | 1 | 0 | 1 | 0
COMMERCE | 0 | 1 | 0 | 1 | 0
DHS | 1329 | 1 | 1329 | 1 | 1329
DOD | 2 | 1 | 2 | 1 | 2
DOE | 0 | 1 | 0 | 1 | 0
DOI | 180 | 1 | 180 | 1 | 180
DOL | 2528 | 1 | 2528 | 1 | 2528
DOT | 148 | 1 | 148 | 1 | 148
ED | 0 | 1 | 0 | 1 | 0
EPA | 0 | 1 | 0 | 1 | 0
HHS | 7814 | 1 | 7814 | 1 | 7814
HUD | 0 | 1 | 0 | 1 | 0
IMLS | 0 | 1 | 0 | 1 | 0
NARA | 0 | 1 | 0 | 1 | 0
NASA | 0 | 1 | 0 | 1 | 0
NEA | 98 | 1 | 98 | 1 | 98
NEH | 0 | 1 | 0 | 1 | 0
NIST | 639 | 1 | 639 | 1 | 639
NRC | 0 | 1 | 0 | 1 | 0
NSF | 0 | 1 | 0 | 1 | 0
SBA | 853 | 1 | 853 | 1 | 853
SSA | 115 | 1 | 115 | 1 | 115
STATE | 3,644 | 1 | 3644 | 1 | 3644
TREASURY | 0 | 1 | 0 | 1 | 0
USAID | 20 | 1 | 20 | 1 | 20
USDA | 116,526 | 1 | 116526 | 1 | 116526
USDOJ | 77 | 1 | 77 | 1 | 77
VA | 591 | 1 | 591 | 1 | 591
Total | 134,564 |  | 134,564 | 134,564

Seleda Perryman,
Office of the Secretary, HHS PRA Reports Clearance Officer.

[FR Doc. 2011-3960 Filed 2-22-11; 8:45 am]

BILLING CODE 4151-AE-P